DEPARTMENT OF HOMELAND SECURITY

Coast Guard

[CGD09-05-006]

Update of Implementation of Sector Detroit, Sector Sault Ste. Marie, Sector Buffalo, and Sector Lake Michigan

AGENCY: Coast Guard, DHS.

ACTION: Notice of organizational change.

SUMMARY: The Coast Guard previously announced the stand-up of Sector Detroit, Sector Sault Ste. Marie, Sector Buffalo, and Sector Lake Michigan under this docket. This notice provides an update to the process of establishing Sectors in the Ninth Coast Guard District. The date on which all boundaries of areas of responsibility will shift has changed from August 12, 2005 to July 29, 2005 to coincide with the stand-up of the last Sector, Sector Lake Michigan. The Commanding Officer of each Sector will have the authority, responsibility and missions of its corresponding Group, Captain of the Port (COTP) and Marine Safety Offices. The Coast Guard has established a continuity of operations whereby all previous practices and procedures will remain in effect until superseded by an authorized Coast Guard official or document.

DATES: The effective dates of sector stand-up are: Sector Detroit on March 31, 2005; Sector Sault Ste. Marie on June 27, 2005; Sector Buffalo on July 22, 2005; and Sector Lake Michigan on July 29, 2005.

ADDRESSES: Documents indicated in this preamble as being available in the docket are part of docket CGD09-05-006 and are available for inspection or copying at Commander, Ninth Coast Guard District (rpl), 1240 E. Ninth Street, Cleveland, Ohio 44199-2060 between 7:30 a.m. and 4:30 p.m., Monday through Friday, except Federal holidays.

FOR FURTHER INFORMATION CONTACT: Lieutenant Junior Grade Christopher Blomshield, Ninth District Planning Office at (216) 902-6101.

SUPPLEMENTARY INFORMATION:

Discussion of Notice

This notice confirms the stand-up of Sector Detroit and announces the prospective dates for the establishment of three other Sectors in the Ninth Coast Guard District. A prior notice stated that all areas of responsibility and authorities would remain unchanged until August 12, 2005. That date has changed to July 29, 2005. Until July 29, 2005, only the names of some units will change. Boundaries of areas of responsibility for all Sectors will change simultaneously on July 29, 2005. Another notice will be issued prior to that date with a detailed description of each Sector's boundaries.

Sector Detroit is located at 110 Mt. Elliot Ave., Detroit, Michigan 48207-4380. Sector Detroit stood-up on March 31, 2005 and is composed of a Response Department, Prevention Department, and Logistics Department. As of March 31, 2005, Group/Marine Safety Office Detroit no longer exists as an organizational entity. On July 29, 2005, Marine Safety Office Toledo will be renamed Marine Safety Unit Toledo.

The Sector Detroit Commander is vested with all the rights, responsibilities, duties, and authority of a Group Commander and Commanding Officer Marine Safety Office, as provided for in Coast Guard regulations, and is the successor in command to the Commanding Officer of Group/Marine Safety Office Detroit. As of July 29, 2005, the Sector Detroit Commander will be designated: (a) Captain of the Port (COTP) for the Detroit, Toledo, and a portion of the Sault Ste. Marie COTP zones; (b) Federal Maritime Security Coordinator (FMSC) for the Detroit, Toledo, and a portion of the Sault Ste. Marie COTP zones; (c) Federal On Scene Coordinator (FOSC) for the Detroit, Toledo, and a portion of the Sault Ste. Marie COTP zones, consistent with the National Contingency Plan; (d) Officer in Charge of Marine Inspection (OCMI) for the Detroit, Toledo, and a portion of the Sault Ste. Marie Marine Inspection Zones; and (e) Search and Rescue Mission Coordinator (SMC). The Deputy Sector Commander will be designated alternate COTP, FMSC, FOSC, SMC and Acting OCMI. These functions will remain with the officers, or their successors, who currently hold them until July 29, 2005. A continuity of operations order has been issued ensuring that all previous Group/Marine Safety Office Detroit, Marine Safety Office Toledo, and Group/Marine Safety Office Sault Ste. Marie practices and procedures will remain in effect until superseded by Commander, Sector Detroit. This continuity of operations order addresses existing COTP regulations, orders, directives and policies.

The following information is a list of updated command titles, addresses and points of contact to facilitate requests from the public and assist with entry into security or safety zones:

Name: Sector Detroit.

Address: Commander, U.S. Coast Guard Sector Detroit, 110 Mt. Elliot Ave., Detroit, Michigan 48207-4380.

Contact: General Number, (313) 568-9580, Sector Commander: Captain Patrick Brennan; Deputy Sector Commander: Commander Christopher Roberge.

Chief, Prevention Department: (313) 568-9490.

Chief, Response Department: (313) 568-9521.

Chief, Logistics Department: (313) 568-9551.

Sector Sault Ste. Marie will be located at 337 Water Street, Sault Ste. Marie, Michigan 49783-9501. Sector Sault Ste. Marie will be composed of a Response Department, Prevention Department, and Logistics Department. Effective June 27, 2005, Group/Marine Safety Office Sault Ste. Marie will no longer exist as an organizational entity. On July 29, 2005, Marine Safety Office Duluth will be renamed Marine Safety Unit Duluth and the southern portions of the Sault Ste. Marie COTP zone will transfer to Sector Detroit and Sector Lake Michigan.

The Sector Sault Ste. Marie Commander will be vested with all the rights, responsibilities, duties, and authority of a Group Commander and Commanding Officer Marine Safety Office, as provided for in Coast Guard regulations, and is the successor in command to the Commanding Officer of Group/Marine Safety Office Sault Ste. Marie. As of July 29, 2005, the Sector Sault Ste. Marie Commander will be designated: (a) Captain of the Port (COTP) for the remainder of the Sault Ste. Marie and the Duluth COTP zones; (b) Federal Maritime Security Coordinator (FMSC) for the remainder of the Sault St. Marie and the Duluth COTP zones; (c) Federal On Scene Coordinator (FOSC) for the remainder of the Sault St. Marie and the Duluth COTP zones, consistent with the National Contingency Plan; (d) Officer in Charge of Marine Inspection (OCMI) for the remainder of the Sault St. Marie and the Duluth Marine Inspection Zones; and (e) Search and Rescue Mission Coordinator (SMC). The Deputy Sector Commander will be designated alternate COTP, FMSC, FOSC, SMC and Acting OCMI. These functions will remain with the officers, or their successors, who currently hold them until July 29, 2005. Marine Safety Unit Duluth will retain COTP authority for the former Duluth COTP zone as a sub-zone of COTP Sault Ste. Marie. A continuity of operations order has been issued ensuring that all previous Group/Marine Safety Office Sault Ste. Marie and Marine Safety Office Duluth practices and procedures will remain in effect until superseded by Commander, Sector Sault Ste. Marie. This continuity of operations order addresses existing COTP regulations, orders, directives and policies.

The following information is a list of updated command titles, addresses and points of contact to facilitate requests from the public and assist with entry into security or safety zones:

Name: Sector Sault Ste. Marie.

Address: Commander, U.S. Coast Guard Sector Sault Ste. Marie, 337 Water Street, Sault Ste. Marie, Michigan 49783-9501.

Contact: General Number, (906) 635-3228, Sector Commander: Captain E. Q. Kahler; Deputy Sector Commander: Commander Larry Hewett.

Chief, Prevention Department: (906) 635-3220.

Chief, Response Department: (906) 635-3231.

Chief, Logistics Department: (906) 635-3265.

Sector Buffalo will be located at 1 Fuhrmann Blvd., Buffalo, New York 14203-3189. Sector Buffalo will be composed of a Response Department, Prevention Department, and Logistics Department. Effective July 22, 2005, Group Buffalo and Marine Safety Office Buffalo no longer exist as organizational entities. On July 29, 2005, Marine Safety Office Cleveland will be renamed Marine Safety Unit Cleveland.

The Sector Buffalo Commander will be vested with all the rights, responsibilities, duties, and authority of a Group Commander and Commanding Officer Marine Safety Office, as provided for in Coast Guard regulations, and will be the successor in command to the Commanding Officers of Group Buffalo and Marine Safety Office Buffalo. As of July 29, 2005, the Sector Buffalo Commander is designated: (a) Captain of the Port (COTP) for the Buffalo and Cleveland COTP zones; (b) Federal Maritime Security Coordinator (FMSC) for the Buffalo and Cleveland zones; (c) Federal On Scene Coordinator (FOSC) for the Buffalo and Cleveland COTP zones, consistent with the National Contingency Plan; (d) Officer in Charge of Marine Inspection (OCMI) for the Buffalo and Cleveland Marine Inspection Zones; and (e) Search and Rescue Mission Coordinator (SMC). The Deputy Sector Commander will be designated alternate COTP, FMSC, FOSC, SMC and Acting OCMI. These functions will remain with the officers, or their successors, who currently hold them until July 29, 2005. A continuity of operations order has been issued ensuring that all previous Group Buffalo, Marine Safety Office Buffalo, and Marine Safety Office Cleveland practices and procedures will remain in effect until superseded by Commander, Sector Buffalo. This continuity of operations order addresses existing COTP regulations, orders, directives and policies.

The following information is a list of updated command titles, addresses and points of contact to facilitate requests from the public and assist with entry into security or safety zones:

Name: Sector Buffalo.

Address: Commander, U.S. Coast Guard Sector Buffalo, 1 Fuhrmann Blvd., Buffalo, New York 14203-3189.

Contact: General Number, (716) 843-9525, Sector Commander: Captain Scott Ferguson; Deputy Sector Commander: Commander Patrick Dowden.

Chief, Prevention Department: (716) 843-9525.

Chief, Response Department: (716) 843-9520.

Chief, Logistics Department: (716) 843-9525.

Sector Lake Michigan will be located at 2420 South Lincoln Memorial Drive, Milwaukee, Wisconsin 53207-1997. Sector Lake Michigan will be composed of a Response Department, Prevention Department, and Logistics Department. Effective July 29, 2005, Group Milwaukee and Marine Safety Office Milwaukee will no longer exist as organizational entities. On July 29, 2005 Marine Safety Office Chicago will be renamed Marine Safety Unit Chicago and Group Grand Haven will be renamed Sector Field Office Grand Haven.

The Sector Lake Michigan Commander will be vested with all the rights, responsibilities, duties, and authority of a Group Commander and Commanding Officer Marine Safety Office, as provided for in Coast Guard regulations, and is the successor in command to the Commanding Officers of Group Milwaukee and Marine Safety Office Milwaukee. The Sector Lake Michigan Commander is designated: (a) Captain of the Port (COTP) for the Milwaukee, Chicago, and portions of the Sault Ste. Marie COTP zones; (b) Federal Maritime Security Coordinator (FMSC) for the Milwaukee, Chicago, and portions of the Sault Ste. Marie zones; (c) Federal On Scene Coordinator (FOSC) for the Milwaukee, Chicago, and portions of the Sault Ste. Marie COTP zones, consistent with the National Contingency Plan; (d) Officer in Charge of Marine Inspection (OCMI) for the Milwaukee, Chicago, and portions of the Sault Ste. Marie Marine Inspection Zones; and (e) Search and Rescue Mission Coordinator (SMC). The Deputy Sector Commander will be designated alternate COTP, FMSC, FOSC, SMC and Acting OCMI. A continuity of operations order has been issued ensuring that all previous Group Milwaukee, Marine Safety Office Milwaukee, Marine Safety Office Chicago, and Group/Marine Safety Office Sault Ste. Marie practices and procedures will remain in effect until superseded by Commander, Sector Lake Michigan. This continuity of operations order addresses existing COTP regulations, orders, directives and policies.

The following information is a list of updated command titles, addresses and points of contact to facilitate requests from the public and assist with entry into security or safety zones:

Name: Sector Lake Michigan.

Address: Commander, U.S. Coast Guard Sector Lake Michigan, 2420 South Lincoln Memorial Drive, Milwaukee, Wisconsin 53207-1997.

Contact: General Number, (414) 747-7100, Sector Commander: Captain Scott LaRochelle; Deputy Sector Commander: Commander Mark Hamilton.

Chief, Prevention Department: (414) 747-7157.

Chief, Response Department: (414) 747-7145.

Chief, Logistics Department: (414) 747-7100.

Dated: April 26, 2005.
R.J. Papp, Jr.,
Rear Admiral, U.S. Coast Guard, Commander, Ninth Coast Guard District.

[FR Doc. 05-9037 Filed 5-5-05; 8:45 am]

BILLING CODE 4910-15-P